DEPARTMENT OF THE INTERIOR

National Park Service

Notice of Intent to Repatriate a Cultural Item: American Museum of Natural History, New York, NY

AGENCY: National Park Service, Interior.

ACTION: Notice.

Notice is here given in accordance with the Native American Graves Protection and Repatriation Act (NAGPRA), 25 U.S.C. 3005, of the intent to repatriate a cultural item in the possession of the American Museum of Natural History, New York, NY, that meets the definition of “object of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The cultural item is a wooden feast dish carved in the shape of a beaver. The dish is approximately 115 centimeters long, 35.5 centimeters wide, and 22 centimeters tall. The sides of the dish are decorated with carved formline designs; small faces are carved into the top of the beaver's head and tail and into each of the beaver's ears. The dish is painted in red and black and the upper rim is decorated with rows of inlaid shell. The rear portion of the dish was damaged and subsequently repaired.

At an unknown date, the beaver dish was acquired by Lieutenant George Thornton Emmons. In 1888, the American Museum of Natural History purchased the beaver dish from Lieutenant Emmons and accessioned it into its collection that same year.

The cultural affiliation of this item is Hutsnuwu Tlingit as indicated by museum records and by representatives of Kootznoowoo, Incorporated, and Central Council of the Tlingit & Haida Indian Tribes during consultation. Museum records and consultation with representatives of Kootznoowoo, Incorporated, and Central Council of the Tlingit & Haida Indian Tribes indicate that the beaver dish was damaged during the U.S. Navy's shelling of Angoon in 1882. Consultation evidence also indicates that the dish was one of only a few items to have survived this incident. This cultural item was claimed on behalf of the Deisheetaan Clan of Angoon for which it continues to have historical, traditional, and cultural importance.

Officials of the American Museum of Natural History have determined that, pursuant to 25 U.S.C. 3001 (3)(D), the cultural item described above has ongoing historical, traditional, or cultural importance central to the Native American group or culture itself, rather than property owned by an individual. Officials of the American Museum of Natural History also have determined that, pursuant to 25 U.S.C. 3001 (2), there is a relationship of shared group identity that can be reasonably traced between the object of cultural patrimony and the Central Council of the Tlingit & Haida Indian Tribes.

Representatives of any other Indian tribe that believes itself to be culturally affiliated with this object should contact Nell Murphy, Director of Cultural Resources, American Museum of Natural History, Central Park West at 79th Street, New York, NY 10024, telephone (212) 769-5837, before August 13, 2008. Repatriation of the object of cultural patrimony to Central Council of the Tlingit & Haida Indian Tribes may proceed after that date if no additional claimants come forward.

The American Museum of Natural History is responsible for notifying the Angoon Community Association, Central Council of the Tlingit & Haida Indian Tribes, Kootznoowoo, Incorporated, and Sealaska Heritage Foundation.

Dated: June 17, 2008
Sherry Hutt,
Manager, National NAGPRA Program.

[FR Doc. E8-15907 Filed 7-11-08; 8:45 am]

BILLING CODE 4312-50-S